ENVIRONMENTAL PROTECTION AGENCY

40 CFR Part 180

[EPA-HQ-OPP-2005-0205; FRL-7766-2]

Cyfluthrin; Pesticide Tolerance Technical Correction

AGENCY: Environmental Protection Agency (EPA).

ACTION: Final rule; technical correction.

SUMMARY: EPA issued a final rule in the Federal Register of September 13, 2005, concerning the establishment of pesticide tolerances for residues of the insecticide cyfluthrin in/on several agricultural commodities. This document is being issued to correct omissions concerning the entry for wheat milled by products, except flour.

DATES: This final rule is effective April 14, 2006.

ADDRESSES: EPA has established a docket for this action under docket identification (ID) number EPA-HQ-OPP-2005-0205. All documents in the docket are listed on the regulations.gov website. Although listed in the index, some information is not publicly available, i.e., CBI or other information whose disclosure is restricted by statute. Certain other material, such as copyrighted material, is not placed on the Internet and will be publicly available only in hard copy form. Publicly available docket materials are available either electronically at http://www.regulations.gov or in hard copy at the Public Information and Records Integrity Branch (PIRIB) (7502C), Office of Pesticide Programs (OPP), Environmental Protection Agency, Rm. 119, Crystal Mall #2, 1801 S. Bell St., Arlington, VA. The Docket Facility is open from 8:30 a.m. to 4 p.m., Monday through Friday, excluding legal holidays. The telephone number for the Docket Facility is (703) 305-5805.

FOR FURTHER INFORMATION CONTACT: Olga Odiott, Registration Division (7505C), Office of Pesticide Programs, Environmental Protection Agency, 1200 Pennsylvania Ave., NW., Washington, DC 20460-0001; telephone number: (703) 308-9369; e-mail address: odiott.olga@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using regulations.gov (http://www.regulations.gov), you may access this Federal Register document electronically through the EPA Internet under the “Federal Register” listings at http://www.epa.gov/fedrgstr/. A frequently updated electronic version of 40 CFR part 180 is available at E-CFR Beta Site Two at http://www.gpoaccess.gov/ecfr/.

II. What Does this Correction Do?

FR Doc. 05-17823 published in the Federal Register of September 13, 2005 (70 FR 53944) (FRL-7725-7) is corrected as follows:

1. On page 53944, in the first column, under SUMMARY, seventh line from the bottom, add “wheat bran;” before “wheat forage;” and “wheat shorts;” after “wheat hay;”.

2. On page 53945, in the first column, first full paragraph, fourth line from the bottom, the text after “vi.” should read “by replacing the tolerance for wheat milled products with wheat bran at 6.5 ppm and wheat shorts at 11.0 ppm.”

3. On the same page, in the same column, second full paragraph, add the following text after the last sentence: “EPA is removing the tolerance for wheat milled byproducts since it is no longer needed with the establishment of tolerances for wheat bran and wheat shorts.”

III. Why is this Correction Issued as a Final Rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making today's technical correction final without prior proposal and opportunity for comment, because [the corrections of the subject tolerances do not underestimate the aggregate dietary exposures and risks from cyfluthrin uses. Therefore, the nature of these changes are not considered significant. EPA finds that this constitutes good cause under 5 U.S.C. 553(b)(B).

IV. Do Any of the Statutory and Executive Order Reviews Apply to this Action?

No. Refer to the discussion provided under Statutory and Executive Order Reviews in the Federal Register document of September 13, 2005.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule ” as defined by 5 U.S.C. 804(2).

List of Subjects in 40 CFR Part 180

Environmental protection, Administrative practice and procedure, Agricultural commodities, Pesticides and pests, Reporting and recordkeeping requirements.

Dated: April 4, 2006.
Meredith F. Laws,
Acting Director, Registration Division, Office of Pesticide Programs.

Therefore, 40 CFR part 180 is corrected as follows:

PART 180—[AMENDED]

1. The authority citation for part 180 continues to read as follows:

Authority: 21 U.S.C. 321 (q), 326a and 371.

2. Section 180.436 is amended in paragraph (a)(1), in the table, by removing the commodity wheat milled byproducts and by alphabetically adding new commodities to read as follows:

§ 180.436 Cyfluthrin; tolerances for residues.

(a) General. (1)* * *

Commodity | Parts per million
* * * * * * *
Wheat, bran | 6.5 ppm
* * * * * * *
Wheat, shorts | 11.0 ppm
* * * * * * *

* * * * *

[FR Doc. 06-3550 Filed 4-13-06; 8:45 am]

BILLING CODE 6560-50-S